DEPARTMENT OF LABOR

Office of Federal Contract Compliance Programs

Proposed Renewal of Information Collection Requirements; Comment Request

AGENCY: Office of Federal Contract Compliance Programs, Department of Labor.

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA). 44 U.S.C. 3506(c)(2)(A). The program helps to ensure that requested data can be provided in the desired format, reporting burden (time and financial resources) is minimized, collection instruments are clearly understood, and the impact of collection requirements on respondents can be properly assessed. Currently, the Office of Federal Contract Compliance Programs is soliciting comments concerning its proposal to renew the Office of Management and Budget (OMB) approval of the Non-construction Supply and Service Information Collection. A copy of the proposed information collection request can be obtained by contacting the office listed below in the addresses section of this Notice or by accessing it at http://www.regulations.gov.

DATES: Written comments must be submitted to the office listed in the addresses section below on or before December 28, 2015.

ADDRESSES: You may submit comments, identified by Control Number 1250-0003, by any of the following methods:

Electronic comments: The Federal eRulemaking portal at http://www.regulations.gov. Follow the instructions for submitting comments.

Mail, Hand Delivery, Courier: Addressed to Debra A. Carr, Director, Division of Policy and Program Development, Office of Federal Contract Compliance Programs, 200 Constitution Avenue NW., Room C-3325, Washington, DC 20210.

Instructions: Please submit one copy of your comments by only one method. All submissions received must include the agency name and Control Number identified above for this information collection. Commenters are strongly encouraged to submit their comments electronically via the regulations.gov Web site or well in advance of the deadline if submitting by mail to account for potential delays. Comments, including personal information provided, become a matter of public record and will be posted to the regulations.gov Web site. They will also be summarized and/or included in the request for OMB approval of the information collection request.

FOR FURTHER INFORMATION CONTACT: Debra A. Carr, Director, Division of Policy and Program Development, Office of Federal Contract Compliance Programs, Room C-3325, 200 Constitution Avenue NW., Washington, DC 20210. Telephone: (202) 693-0103 (voice) or (202) 693-1337 (TTY) (these are not toll-free numbers). Copies of this notice may be obtained in alternative formats (large print, braille, audio recording), upon request, by calling the numbers listed above.

SUPPLEMENTARY INFORMATION:

I. Background: The Office of Federal Contractor Compliance Programs (OFCCP) administers and enforces the three nondiscrimination and equal employment opportunity laws listed below.

• Executive Order 11246, as amended (E.O. 11246).

• Section 503 of the Rehabilitation Act of 1973, as amended, 29 U.S.C. 793 (Section 503).

• Vietnam Era Veterans' Readjustment Assistance Act of 1974, as amended, 38 U.S.C. 4212 (VEVRAA).

Generally, these authorities prohibit employment discrimination and require affirmative action to ensure that equal employment opportunities are available regardless of race, color, religion, sex, sexual orientation, gender identity, national origin, disability, or status as a protected veteran by Federal contractors. Additionally, federal contractors and subcontractors are prohibited from, discriminating against applicants and employees for asking about, discussing, or sharing information about their pay or the pay of their co-workers. This clearance request covers aspects of the EO 11246, Section 503, and VEVRAA non-construction supply and service program, particularly the Scheduling Letter and Itemized Listing. OFCCP is not proposing to collect new information with this renewal. Instead, OFCCP is seeking to clarify the information collection that is the subject of this renewal. To view this current supply and service information collection, go to http://www.regulations.gov.

E.O. 11246 applies to Federal contractors and subcontractors and to federally assisted construction contractors holding a Government contract in excess of $10,000, or Government contracts which have, or can reasonably be expected to have, an aggregate total value exceeding $10,000 in a 12-month period. EO 11246 also applies to government bills of lading, depositories of Federal funds in any amount, and to financial institutions that are issuing and paying agents for U.S. Savings Bonds.

Section 503 prohibits employment discrimination against applicants and employees because of physical or mental disability and requires affirmative action to ensure that persons are treated without regard to disability. Section 503 applies to Federal contractors and subcontractors with contracts in excess of $15,000. ¹

¹ Effective October 1, 2010, the coverage threshold under Section 503 increased from $10,000 to $15,000, in accordance with the inflationary adjustment requirements in 41 U.S.C. 1908.

VEVRAA prohibits employment discrimination against protected veterans and requires affirmative action to ensure that persons are treated without regard to their status as a protected veteran. VEVRAA applies to Federal contractors and subcontractors with contracts of $150,000 or more. ²

² Effective October 1, 2015, the coverage threshold under VEVRAA increased from $100,000 to $150,000, in accordance with the inflationary adjustment requirements in 41 U.S.C. 1908.

The ICR addresses EO 11246, Section 503 and VEVRAA supply and service program components subject to the Paperwork Reduction Act of 1995 (PRA).

II. Review Focus: The Department of Labor is particularly interested in comments which:

• Evaluate whether the proposed collection of information is necessary for the compliance and enforcement functions of the agency, including whether the information will have practical utility;

• evaluate the accuracy of the agency's estimate of the burden of the proposed collection of information, including the validity of the methodology and assumptions used;

• enhance the quality, utility and clarity of the information to be collected; and

• minimize the burden of the collection of information on those who are to respond, including through the use of appropriate automated, electronic, mechanical, or other technological collection techniques or other forms of information technology, e.g., permitting electronic submissions of responses.

III. Current Actions: DOL seeks the approval of the revision of this information in order to carry out its responsibility to enforce the anti-discrimination and affirmative action provisions of the three legal authorities it administers.

Type of Review: Revision of OMB 1250-0003.

Agency: Office of Federal Contract Compliance Programs.

Title: Recordkeeping and Reporting Requirements, Supply and Service.

OMB Number: 1250-0003.

Agency Number: None.

Affected Public: Business or other for-profit, Not-for-profit institutions.

Total Respondents: 104,545.

Total Annual responses: 104,545.

Average Time per Response (approximation due to rounding): 91 hours.

Estimated Total Burden Hours (approximation due to rounding): 9,559,739.

Frequency: On occasion.

Total Burden Cost (capital/startup): $0.

Total Burden Cost (operating/maintenance): $140,263.

Comments submitted in response to this notice will be summarized and/or included in the request for OMB approval of this ICR and become a matter of public record.

Dated: October 22, 2015.
Debra A. Carr,
Director, Division of Policy and Program Development, Office of Federal Contract Compliance Programs.

[FR Doc. 2015-27580 Filed 10-28-15; 8:45 am]

BILLING CODE 4510-CM-P